ENVIRONMENTAL PROTECTION AGENCY

[FRL-6714-8]

Information Collection Request for the State Source Water Assessment and Protection Programs 1997 Guidance

AGENCY: Environmental Protection Agency (EPA).

ACTION: Notice.

SUMMARY: In compliance with the Paperwork Reduction Act (44 U.S.C. 3501 et seq.), this document announces that EPA is planning to submit the following continuing Information Collection Request (ICR) to the Office of Management and Budget (OMB): The 1997 State Source Water Assessment and Protection Programs Guidance; EPA ICR #1816.01; OMB Control #2040-0197; expiration date August 31, 2000. Before submitting the ICR to OMB for review and approval, EPA is soliciting comments on specific aspects of the proposed information collection as described in the supplementary information.

DATES: Comments must be submitted on or before August 15, 2000.

ADDRESSES: Interested persons may obtain a copy by requesting EPA ICR# 1816.01 from Edward Heath; US Environmental Protection Agency; Ariel Rios Building; 1200 Pennsylvania Avenue, NW.; MC 4606; Washington, DC 20460.

FOR FURTHER INFORMATION CONTACT: Edward Heath (202) 260-9865; FAX (202) 401-3041; E-mail: heath.edward@epa.gov.

SUPPLEMENTARY INFORMATION: Affected Entities: Entities (hereinafter referred to as “States”) potentially affected by this action are the 50 States, Puerto Rico, and the District of Columbia.

Title: The 1997 State Source Water Assessment and Protection Programs Guidance; OMB Control #2040-0197; EPA ICR #1816.01; expiring 8/31/2000.

Section 1453 of the Safe Drinking Water Act(SDWA)Amendments of 1996 authorizes State Source Water Assessment Programs (SWAPs) to achieve or maintain compliance with SDWA requirements and to protect public health.

Abstract: Section 1453(a)(3) of the Safe Drinking Water Act Amendments of 1996 required States to submit a Source Water Assessment Program within 18 months after the guidance was issued on August 6, 1997. These SWAP's describe the process by which a State delineates source water protection areas, conducts contamination source inventories and susceptibility determinations, and indicates whether or not it plans to implement a source water protection program. A State must develop a SWAP program with public participation, and release assessment results to the public.

Once a State program is approved by EPA, the State has two years to complete the source water assessment for the public water systems within their borders. Section 1453(a)(4) of the SDWA Amendments of 1996 allows a State to request an extension of up to 18 months to complete the assessments. The final phase of this ICR will focus on the years 2000-2003 of the SWAP program, including completing the assessments, and State reporting of data on the required assessments to EPA.

The EPA would like to solicit comments to:

(i) Evaluate whether the proposed collection of information is necessary for the proper performance of the functions of the Agency, including whether the information will have practical utility;

(ii) Evaluate the accuracy of the Agency's estimate of the burden of the proposed collection of information, including the validity of the methodology and assumptions used;

(iii) Enhance the quality, utility, and clarity of the information to be collected; and,

(iv) Minimize the burden of the collection of information on those who are to respond, including through the use of appropriate automated electronic, mechanical, or other technological collection techniques or other forms of information technology, e.g., permitting electronic submission of responses.

Burden Statement: The annual public reporting and record keeping burden for this collection of information is estimated to average 50,256 hours per State response.

Estimated Number of Likely Respondents: 52.

Frequency of Response: Once per year.

Estimated Total Annual Hour Burden: 2,613,349 hours.

Estimated Total Annualized Cost Burden: $82,031,139.00

Burden means the total time, effort, or financial resources expended by persons to generate, maintain, retain, or disclose or provide information to or for a Federal agency. This includes the time needed to implement the source water assessments; review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Respondents/Affected Entities: States, Puerto Rico and the District of Columbia.

Dated: June 2, 2000.
Cynthia C. Dougherty,
Director, Office of Ground Water and Drinking Water.

[FR Doc. 00-15300 Filed 6-15-00; 8:45 am]

BILLING CODE 6560-50-P